DEPARTMENT OF JUSTICE

Antitrust Division

Notice Pursuant to the National Cooperative Research and Production Act of 1993—Storage Bridge Bay Working Group, Inc.

Notice is hereby given that, on August 9, 2005, pursuant to Section 6(a) of the National Cooperative Research and Production Act of 1993, 15 U.S.C. 4301 et. seq. (“the Act”), Storage Bridge Bay Working Group, Inc. (“SBB”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the Standards development organization is: Storage Bridge Bay Working Group, Inc., Redwood City, CA. The nature and scope of SBB's standards development activities are: Promoting the computer industry by supporting and facilitating the development of interoperable and compatible storage components with reference to controller slot compatibility between and among storage solutions. These purposes include the objective of developing and publishing a “storage bridge bay” specification that will serve as a reference and guideline for defining physical, mechanical, electrical and low-level enclosure management requirements for an enclosure controller slot that will support a variety of storage controllers from a variety of independent hardware vendors and independent software vendors. Any storage controller design based on this specification shall be able to fit, connect, and operate within any storage enclosure controller slot design based on the same specification.

Dorothy B. Fountain,
Deputy Director of Operations Antitrust Division.

[FR Doc. 05-16959 Filed 8-25-05; 8:45 am]

BILLING CODE 4410-11-M